DEPARTMENT OF LABOR

Mine Safety and Health Administration

Proposed Information Collection Request Submitted for Public Comment and Recommendations; Applications for Approval of Sanitary Toilet Facilities

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before March 18, 2002.

ADDRESSES: Send comments to David L. Meyer, Director, Office of Administration and Management, 4015 Wilson Boulevard, Room 615, 4015, Arlington, VA 22203-1984. Commenters are encouraged to send their comments on a computer disk, or via Internet E-mail to Meyer-David@msha.gov, along with an original printed copy. Mr. Meyer can be reached at (703) 235-1383 (voice), or (703) 235-1563 (facsimile).

FOR FURTHER INFORMATION CONTACT: Charlene N. Barnard, Regulatory Specialist, Records Management Division, U.S. Department of Labor, Mine Safety and Health Administration, Room 725, 4015 Wilson Boulevard, Arlington, VA 22203-1984. Ms. Barnard can be reached at barnard-charlene@msha.gov (Internet E-mail), (703) 235-1470 (voice), or (703) 235-1563 (facsimile).

I. Background

The purpose of the collection of this information is to evaluate the sanitary features of manufactured toilets for use at coal mines. Protecting the health of miners is a vital function of the agency. Proper environmental sanitation is necessary to protect coal miners from illnesses that can be transported by human waste and also needed to maintain equalization of working conditions with other occupational groups.

II. Desired Focus of Comments

Currently, the Mine Safety and Health Administration (MSHA) is soliciting comments concerning the proposed reinstatement of the information collection related to the Approval of Sanitary Facilities at Coal Mines. MSHA is particularly interested in comments which:

• Evaluate whether the proposed collection of information is necessary for the proper performance of the functions of the agency, including

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act submission (http://www.msha.gov/regspwork.htm)”, or by contacting the employee listed above in the FOR FURTHER INFORMATION CONTACT section of this notice of a hard copy.

III. Current Action

The agency feels that the information is necessary for the continuing evaluation of applications under the standards. No revisions or new proposals are included.

Type of Review: Reinstatement.

Agency: Mine Safety and Health Administration.

Title: Applications for Approval of Sanitary Toilet Facilities.

OMB Number: 1219-0101.

Affected Public: Business or other for profit.

Cite/Reference | Total respondents | Frequency | Total responses | Average time per response | Burden (in hours)
71.500 | 1 | 1 | 1 | 8 | 8
75.1712-6 | 1 | 1 | 1 | 8 | 8
Totals | 2 | 2 | 2 | 16 | 16

Total Annualized Capital/Startup Costs: $0.

Total Operating and Maintenance Costs: $0.

Comments submitted in response to this notice will be summarized and/or included in the request for Office of Management and Budget approval of the information collection request; they will also become a matter of public record.

David L. Meyer,
Director, Office of Administration and Management.

[FR Doc. 02-1112 Filed 1-15-02; 8:45 am]

BILLING CODE 4510-43-M